DEPARTMENT OF JUSTICE

Notice of Lodging of Consent Decree Between the United States and Illinois Power Company and Dynegy Midwest Generation Under the Clean Air Act

Under 28 CFR 50.7, notice is hereby given that on March 7, 2005, a proposed consent decree (“Consent Decree”) between Illinois Power Company, Dynegy Midwest Generation, Inc. and the United States, Civil Action No. 99-833-MJR, was lodged with the United States District Court for the Southern District of Illinois.

The Consent Decree would resolve claims asserted by the United States against Illinois Power Company and Dynegy Midwest Generation in a Complaint filed against Illinois Power Company on November 3, 1999 and in Amended Complaints filed against both Illinois Power Company and Dynegy Midwest Generation, Inc. in 2001, 2002 and 2003, pursuant to sections 113(b) and 167 of the Clean Air Act (the “Act”), 42 U.S.C. 7413(b) and 7477, seeking injunctive relief and the assessment of civil penalties for violations at the Baldwin Generating Station of:

(a) The Prevention of Significant Deterioration provisions in part C of subchapter I of the Act, 42 U.S.C. 7470-92;

(b) The New Source Performance Standards provision in part A of subchapter I of the Act, 42 U.S.C. 7411; and

(c) The federally-enforceable State Implementation Plan developed by the State of Illinois (the “Illinois SIP”).

In addition, the proposed Consent Decree would require Dynegy Midwest Generation to spend no less than $15 million to implement mitigation projects that will finance the installation of enhanced mercury reduction technology, the acquisition and preservation of ecologically valuable lands and habitat in the St. Louis Metro East area and along the Illinois River, municipal building energy conservation, advanced truck stop electrification to reduce air emissions from diesel exhaust, and the transfer of an approximately 1,135 acre parcel of land along the Middle Fork of the Vermillion River in Vermillion County, Illinois, to the State of Illinois, Department

The Complaints filed by the United States allege, among other things, that between approximately 1982 and the present, Illinois Power Company modified and thereafter operated the three coal-fired electricity generating units at the Baldwin Generating Station in Baldwin, Illinois, without first obtaining a PSD permit authorizing the construction and without installing the best available technology to control emissions of sulfur dioxide, nitrogen oxides, and particulate matter, as required by the Act, applicable Federal regulations, and the Illinois SIP. These modifications resulted in significant net emissions increases, as defined by 40 CFR 52.21(b)(3)(i), of none or more of the following pollutants: NOX, SO2, and PM.

The proposed Consent Decree would require the current owner and operator of the Baldwin Generating Station, Dynegy Midwest Generation, to reduce SO2, NOX and PM emissions at the Baldwin Generating Station, as well as at four other coal-fired plants it owns in Illinois—the Havana Generating Station in Havana, IL, the Hennepin Generating Station in Hennepin, IL, the Vermilion Generating Station in Oakwood, IL, and the Wood River Generating Station in Alton, Illinois—through the installation of state-of-the-art pollution control technologies and compliance with specified emission limits of Natural Resources. Finally, the proposed Consent Decree would require Dynegy Midwest Generation to pay a $9.0 million civil penalty.

The United States was joined in the settlement by Plaintiff-Intervenors the State of Illinois and four citizen groups—the American Bottom Conservancy; Health and Environmental Justice—St. Louis; Illinois Stewardship Alliance; and the Prairie Rivers Network.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Illinois Power Company and Dynegy Midwest Generation, Inc., D.J. Ref. No. 90-5-2-1-06837.

The Consent Decree may be examined at the Office of the United States Attorney, Southern District of Illinois, 9 Executive Drive, Suite 300, Fairview Heights, IL 62208, and at U.S. EPA Region V, 77 West Jackson Blvd., Chicago, IL 60604-3507. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $21.75 (25 cents per page reproduction cost) payable to the U.S. Treasury.

W. Benjamin Fisherow,
Deputy Chief, Environmental Enforcement Section, Environment and Natural Resources Division.

[FR Doc. 05-5198 Filed 3-15-05 8:45 am]

BILLING CODE 4410-15-M